INTERNATIONAL TRADE COMMISSION

[Investigation No. 337-TA-1028]

Certain Mobile Device Holders and Components Thereof; Institution of Investigation

AGENCY: U.S. International Trade Commission.

ACTION: Notice.

SUMMARY: Notice is hereby given that a complaint was filed with the U.S. International Trade Commission on October 6, 2016, under section 337 of the Tariff Act of 1930, as amended, 19 U.S.C. 1337, on behalf of Nite Ize, Inc. of Boulder, Colorado. Supplements to the complaint were filed on October 21, 2016 and October 26, 2016. The complaint, as supplemented, alleges violations of section 337 based upon the importation into the United States, the sale for importation, and the sale within the United States after importation of certain mobile device holders and components thereof by reason of infringement of certain claims of U.S. Patent No. 8,602,376 (“the '376 patent”); U.S. Patent No. 8,870,146 (“the '146 patent”); U.S. Patent No. D734,746 (“the '746 patent”); and U.S. Patent No. D719,959 (“the '959 patent”). The complaint further alleges that an industry in the United States exists as required by subsection (a)(2) of section 337.

The complainant requests that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of Unfair Import Investigations, U.S. International Trade Commission, telephone (202) 205-2560.

AUTHORITY: The authority for institution of this investigation is contained in section 337 of the Tariff Act of 1930, as amended, and in section 210.10 of the Commission's Rules of Practice and Procedure, 19 CFR 210.10 (2016).

SCOPE OF INVESTIGATION: Having considered the complaint, the U.S. International Trade Commission, on November 7, 2016, ORDERED THAT—

(1) Pursuant to subsection (b) of section 337 of the Tariff Act of 1930, as amended, an investigation be instituted to determine whether there is a violation of subsection (a)(1)(B) of section 337 in the importation into the United States, the sale for importation, or the sale within the United States after importation of certain mobile device holders and components thereof by reason of infringement of one or more of claims 1, 11, and 12 of the '376 patent; claims 1, 11, and 12 of the '146 patent; claim 1 of the '746 patent; claim 1 of the '959 patent, and whether an industry in the United States exists as required by subsection (a)(2) of section 337;

(2) For the purpose of the investigation so instituted, the following are hereby named as parties upon which this notice of investigation shall be served:

(a) The complainant is: Nite Ize, Inc., 5660 Central Avenue, Boulder, CO 80301.

(b) The respondents are the following entities alleged to be in violation of section 337, and are the parties upon which the complaint is to be served:

Shenzhen Youtai Trade Company Limited, d/b/a NoChoice, Room 813, Gelinwangyuan o. 96 Yannan Road, Futian District Shenzhen, Guangdong, China, 518000

REXS LLC, 16192 Coastal Highway, Lewes, DE 19958

Spinido, Inc., 36 South 18th Avenue, Suite A, Brighton, CO 80601

Luo, Qiben, d/b/a Lita International Shop, No. 10, Gaoxin South Four Road, Nanshan Shenzhen, China 518057

Guangzhou Kuaguoyi E-commerce co., ltd. d/b/a Kagu Culture, C102, Mingzhu Creative Park No.66, Xiaogang Garden Rd, Yuncheng Street Baiyun, Guangzhou China, 510000

Shenzhen New Dream Technology Co., Ltd., d/b/a Newdreams, Room 307, Haotai building Baomin Second Road NO.1, Xixiang Street Bao'an, Shenzhen, China, 518102 Shenzhen Gold South Technology Co., Ltd. d/b/a Baidatong, Room 616, West Of 6/F, Bldg. 102, Pengji Shangbu Industrial Workshop, Shangbu Industrial Zone, North Huaqiang Road, Futian District, Shenzhen, Guangdong, China, 518028

Sunpauto Co., ltd, Unit 04, 7/F, Bright Way Tower, NO.33 Mong Kok Road, Kowloon, HK

Wang Zhi Gang d/b/a IceFox, Room 806,Ge Lin Wang Yuan YanNan Road, Futian District Shenzhen, China, 518000

Dang Yuya d/b/a Sminiker, No.5, Jinlongsan Rd., Longgang District Shenzhen, China, 518100

Shenzhen Topworld Technology Co. d/b/a IdeaPro, RM603, 6/F Hang Pont Comm Bldg. 31 Tonk In St., Cheung Sha Wan Kln, Hong Kong, Hong Kong

Lin Zhen Mei d/b/a Anson 502, B Seat, 3 Building, Guandi Garden Xian N7 area, Jiaan west Rd, Baoan Dist. Shenzhen, Guangdong, China 518128

Wu Xuying d/b/a Novoland No. 2336 Nanhai Road, Nanshan District Shenzhen, China, 518054

Shenzhen New Dream Sailing Electronic Technology Co., Ltd. d/b/a MegaDream Room 1006, Modern International Mansion Jintian Road, Futian District, Shenzhen, Guangdong, China, 518048

Zhongshan Feiyu Hardware Technology Co., Ltd d/b/a YouFo 13# Haotong Road, Minle Community, Yongle Village DongFeng Town, ZhongShan City Guangdong, China, 528400

Ninghuaxian Wangfulong Chaojishichang Youxian Gongsi, Ltd., d/b/a EasybuyUS RM 101, NO.12, 250 Lane, Kangshen Road, Pudong, Xinqu Shanghai, China, 201315

Chang Lee d/b/a Frentaly, 1795 Morningdale Circle, Duluth, GA 30097

Trendbox USA LLC d/b/a Trendbox, 16419 North 91st Street, Suite 125, Scottsdale, AZ 85260

Tontek d/b/a Shenzhen Hetongtai Electronics Co., Ltd., B1505, Niulanqian Bldg., Minzhi Street, Longhua New Area, Shenzhen, Guangdong, China, 518000

Scotabc d/b/a ShenChuang Opto-electronics Technology Co., Ltd., Rm.1203A, Zhanyuan Business Bldg, NO.912 Meilong Rd., Longhua town, Longhua Dist. Shenzhen, Guangdong, China, 068100

Tenswall d/b/a Shenzhen Tenswall International Trading Co., Ltd., 14837 Proctor Ave Ste A, La Puente, CA 91746

Luo Jieqiong d/b/a Wekin Room 1602, Building 20 Hua Sheng Shi Ji, Xin Cheng Yu Hua Dist Chang Sha, China, 410100

Pecham d/b/a Baichen Technology Ltd., RM 20A, Kiu Fu Comm Bldg 300 Lockhart Rd. Wan Chai, Hong Kong

Cyrift d/b/a Guangzhou Sunway E- Commerce LLC., D202 Guangzhou Trade Business Center, Guangzhou, China, 510000

Rymemo d/b/a Global Box, LLC., 310 Ferguson Rd, Dunbar, PA 15431

Wang Guoxiang d/b/a Minse, Rm 609, Block 2, Xinghu Garden No.9 Jinbi Rd, Luohu Dist Shenzhen, Guangdong, China, 518028

Yuan I d/b/a Bestrix, No. 10, Group 1 Qingyuan Street, Wangying Town Lichuan City, Hubei, China, 445400 Zhiping Zhou d/b/a Runshion 31F, Dong C, Jinganghuating, Baoandadao, Baoanqu Shenzhenshi, Guangdong, China, 518000

Huijukon d/b/a Shenzhen Hui Ju Kang Technology Co. Ltd., #1218 Lianhua Building No2008, Shennan Middle Street, Futian Dist Shenzhen, China, 518000

Barsone d/b/a Shenzhen Senweite Electronic Commerce Ltd., Rm 201, Building A, No.1 Qianwan 1st Rd Qianhai SZ-HK Cooperation Zone Shenzhen City, China, 518103

Oumeiou d/b/a Shenzhen Oumeiou Technology Co., Ltd., F3 Comprehensive Bldg of Nankeng 2nd Industrial Park, Bantian Street, Longgang Shenzhen, China, 518112

Grando d/b/a Shenzhen Dashentai Network Technology Co., Ltd., 806 Dongbian Building No.222 Minzhi Road, Minzhi Street Longhuaxinqu, Shenzhen, China, 518109

Shenzhen Yingxue Technology Co., Ltd., Room 14H, Haojingmingyuan Phase II No.28 Zhengqing Road, Buji Town, Longgang District, Shenzhen, China, 518112

Shenzhen Longwang Technology Co., Ltd., d/b/a LWANG B21, 5/F, West Of Bldg. 4, Seg Tech Park, Huaqiang North Rd., Futian Dist., Shenzhen, Guangdong, China, 518000

Hu Peng d/b/a AtomBud Room 602, Unit 1, Dongfangqinyuan 2 Pingan Road, Longgang District Shenzhen, China, 518112

(c) The Office of Unfair Import Investigations, U.S. International Trade Commission, 500 E Street, SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 7. 2016.
Lisa R. Barton,
Secretary to the Commission.

[FR Doc. 2016-27251 Filed 11-10-16; 8:45 am]

BILLING CODE 7020-02-P